FEDERAL ELECTION COMMISSION

Sunshine Act Meetings

AGENCY: Federal Election Commission.

DATE AND TIME: Thursday, January 16, 2014 at 10:00 a.m.

PLACE: 999 E Street NW., Washington, DC (Ninth Floor).

STATUS: This meeting will be open to the public.

ITEMS TO BE DISCUSSED:

Correction and Approval of Minutes for December 5 and 17, 2013

Draft Advisory Opinion 2013-18: Revolution Messaging, LLC

Interpretive Rule Re: Nationwide Independent Expenditures

Audit Division Recommendation Memorandum on the Dallas County Republican Party (DCRP) (A11-14)

Audit Division Recommendation Memorandum on the Republican Party of Iowa (RPIA) (A11-24)

Audit Division Recommendation Memorandum on the Vermont Democratic Party (VDP) (A11-12)

Audit Division Recommendation Memorandum on the Democratic Party of South Carolina (DPSC) (A11-19)

2014 Meeting Dates (through September)

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2014-00570 Filed 1-10-14; 11:15 am]

BILLING CODE 6715-01-P